DEPARTMENT OF THE TREASURY

Office of Foreign Assets Control

OFAC Implementation of Certain Sanctions Imposed on Two Persons by the Secretary of State Pursuant to the Iran Sanctions Act of 1996, as Amended

AGENCY: Office of Foreign Assets Control, Treasury.

ACTION: Notice.

SUMMARY: The Treasury Department's Office of Foreign Assets Control (“OFAC”) is providing notice of actions taken by OFAC to implement certain of the sanctions imposed on two persons by the Secretary of State pursuant to the Iran Sanctions Act of 1996 (Pub. L. 104-172) (50 U.S.C. 1701 note), as amended (“ISA”).

DATES: OFAC's actions described in this Notice to implement certain ISA sanctions on DIMITRIS CAMBIS and IMPIRE SHIPPING COMPANY were effective March 14, 2013.

FOR FURTHER INFORMATION CONTACT: Assistant Director for Sanctions Compliance and Evaluation, Office of Foreign Assets Control, Department of the Treasury, Washington, DC 20220, tel.: 202/622-2490.

SUPPLEMENTARY INFORMATION:

Electronic and Facsimile Availability

This document and additional information concerning OFAC are available from OFAC's Web site (www.treasury.gov/ofac) or via facsimile through a 24-hour fax-on demand service tel.: (202) 622-0077.

Background

The Iran Sanctions Act of 1996 (Pub. L. 104-172) (50 U.S.C. 1701 note), as amended (“ISA”), requires the Secretary of State, pursuant to authority delegated by the President, to impose or waive sanctions on persons determined to have engaged in certain investment or other activity in connection with Iran's petroleum or petrochemical sectors. Specifically, section 5(a)(8) of ISA requires the imposition of sanctions on certain persons that conceal the Iranian origin of crude oil and refined petroleum products. Executive Order 13628 of October 9, 2012, “Authorizing the Implementation of Certain Sanctions Set Forth in the Iran Threat Reduction and Syria Human Rights Act of 2012 and Additional Sanctions With Respect to Iran” (“E.O. 13628”), requires the Secretary of the Treasury, pursuant to authority under the International Emergency Economic Powers Act (50 U.S.C. 1701-1706), to implement certain sanctions set forth in section 6 of ISA when those sanctions are selected and imposed by the Secretary of State pursuant to ISA.

The Secretary of the Treasury is responsible for implementing the following sanctions described in section 6(a) of ISA: (i) With respect to section 6(a)(3) of ISA, to prohibit any U.S. financial institution from making loans or providing credits to a person sanctioned under ISA; (ii) with respect to section 6(a)(6) of ISA, to prohibit any transactions in foreign exchange that are subject to the jurisdiction of the United States and in which a person sanctioned under ISA has any interest; (iii) with respect to section 6(a)(7) of ISA, to prohibit any transfers of credit or payments between financial institutions or by, through, or to any financial institution, to the extent that such transfers or payments are subject to the jurisdiction of the United States and involved any interest of a person sanctioned under ISA; (iv) with respect to section 6(a)(8) of ISA, to block all property and interests in property that are in the United States, that come within the United States, or that are or come within the possession or control of any United States person, including any foreign branch, of a person sanctioned under ISA, and to provide that such property and interests in property may not be transferred, paid, exported, withdrawn, or otherwise dealt in; (v) with respect to section 6(a)(9) of ISA, to prohibit any United States person from investing in or purchasing significant amounts of equity or debt instruments of a person sanctioned under ISA; (vi) with respect to section 6(a)(11) of ISA, to impose on the principal executive officer or officers, or persons performing similar functions and with similar authorities, of a person sanctioned under ISA the sanctions described in (i) through (v) above and (vii) below, as selected by the Secretary of State; and (vii) with respect to section 6(a)(12) of ISA, to restrict or prohibit imports of goods, technology, or services, directly or indirectly, into the United States from a person sanctioned under ISA.

The Secretary of State has imposed sanctions on the persons listed below pursuant to section 5(a)(8) of ISA.¹ See 78 FR 21183 (April 9, 2013), which provides the name of the individual and entity subject to sanctions, as well as a complete list of the sanctions imposed. Accordingly, the Director of OFAC, acting pursuant to delegated authority, has taken action under E.O. 13628 to implement certain sanctions imposed by the Secretary of State pursuant to subsections 6(a)(6)-(8) of ISA with respect to the following individual:

¹ Separately, on March 14, 2013, the Director of OFAC identified Dimitris Cambis and Impire Shipping Company, among other persons, as meeting the definition of “the Government of Iran” pursuant to Executive Order 13599 of February 5, 2012, “Blocking Property of the Government of Iran and Iranian Financial Institutions. See 78 FR 19075. As a result, the property and interests in property of these persons are blocked and they appear on OFAC's List of Specially Designated Nationals and Blocked Persons with the identifying tag “IRAN.”

1. CAMBIS, Dimitris (a.k.a. KAMPIS, Dimitrios Alexandros; a.k.a. “KLIMT, Gustav”); DOB 14 Oct 1963 (individual) [IRAN] [ISA]

In addition, the Director of OFAC, acting pursuant to delegated authority, has taken action under E.O. 13628 to implement certain sanctions imposed by the Secretary of State pursuant to subsections 6(a)(7)-(8) of ISA with respect to the following entity:

1. IMPIRE SHIPPING COMPANY (a.k.a. IMPIRE SHIPPING; a.k.a. IMPIRE SHIPPING LIMITED), Greece [IRAN] [ISA]

The Director of OFAC has: (a) Blocked all property and interests in property that are in the United States, that come within the United States, or that are or come within the possession or control of any United States person, including any overseas branch, of the individual and the entity listed above; (b) prohibited any transfers of credit or payments between financial institutions or by, through, or to any financial institution, to the extent that such transfers or payments are subject to the jurisdiction of the United States and involve any interest of the individual or the entity listed above; and (c) prohibited any transactions in foreign exchange that are subject to the jurisdiction of the United States and which involve any interest of the individual listed above. Dimitris Cambis and Impire Shipping Company have been added to OFAC's List of Specially Designated Nationals and Blocked Persons with the identifying tags “[IRAN]” and “[ISA].”

Dated: August 8, 2014.
Barbara C. Hammerle,
Acting Director, Office of Foreign Assets Control.

[FR Doc. 2014-21215 Filed 9-4-14; 8:45 am]

BILLING CODE 4810-AL-P